DEPARTMENT OF ENERGY

Federal Energy Regulatory Commission

[Project No. 13329-000]

Town of Wiscasset, ME; Notice of Preliminary Permit Application Accepted for Filing and Soliciting Comments, Motions To Intervene, and Competing Applications

January 21, 2009.

On November 12, 2008, the Town of Wiscasset, Maine filed an application, pursuant to section 4(f) of the Federal Power Act, proposing to study the feasibility of the Town of Wiscasset Tidal Resources Project to be located on the Sheepscot River in Lincoln County, Maine. The project uses no dam or impoundment.

The proposed project would consist of: (1) 4 to 40 OCGen(™) hydrokinetic turbine generating units, with a total installed capacity of 1 to 10 megawatts, (2) a proposed underwater transmission cable approximately 6 miles in length, (3) a proposed 1,000-foot-long, 480-volt transmission line, and (4) appurtenant facilities. The project is estimated to have an annual generation of 43.8 gigawatt-hours, which would be sold to a local utility.

Applicant Contact: Mr. Arthur Faucher, Town Manager, Town of Wiscasset, 51 Bath Road, Wiscasset, Maine 04578, phone: (207) 882-8200.

FERC Contact: Kelly T. Houff (202) 502-6393.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of Commission's Web site at http://www.ferc.gov/docs-filing/elibrary.asp. Enter the docket number (P-13329) in the docket number field to access the document. For assistance, call toll-free 1-866-208-3372.

Kimberly D. Bose,
Secretary.

[FR Doc. E9-1762 Filed 1-27-09; 8:45 am]

BILLING CODE 6717-01-P